DEPARTMENT OF THE INTERIOR

Fish and Wildlife Service

Notice of Availability of the Restoration and Compensation Determination Plan, Lower Fox River/Green Bay Natural Resource Damage Assessment

AGENCY: Fish and Wildlife Service, Interior.

ACTION: Notice of 45-day comment period.

SUMMARY: Notice is given that the “Restoration and Compensation Determination Plan, [for the] Lower Fox River and Green Bay Natural Resource Damage Assessment” is available for public review and comment. The public comment period started at a public meeting in Green Bay, Wisconsin on October 25, 2000. In addition, comments are being accepted on each of the following documents, released previously. “Fish Consumption Advisories in the Lower Fox River/Green Bay Assessment Area” (November 24, 1998); “Injuries to Avian Resources, Lower Fox River/Green Bay Natural Resource Damage Assessment” (May 7, 1999); “PCB Pathway Determination for the Lower Fox River/Green Bay Natural Resource Damage Assessment” (August 30, 1999); “Recreational Fishing Damages from Fish Consumption Advisories in the Waters of Green Bay” (November 1, 1999); “Injuries to Surface Water Resources, Lower Fox River/Green Bay Natural Resource Damage Assessment” (November 8, 1999); and ”Injuries to Fishery Resources, Lower Fox River/Green Bay Natural Resource Damage Assessment” (November 8, 1999).

The U.S. Department of the Interior (“Department”), the U.S. National Oceanic and Atmospheric Administration, the Menominee Indian Tribe of Wisconsin, the Oneida Tribe of Indians of Wisconsin, the Little Traverse Bay Bands of Odawa Indians, and the Michigan Attorney-General are acting as co-trustees for natural resources considered in this assessment, pursuant to subpart G of the National Oil and Hazardous Substances Pollution Contingency Plan, 40 CFR 300.600 and 300.610, and Executive Order 12580.

The assessment, including the activities addressed in this restoration and compensation determination plan, is being conducted pursuant to the Natural Resource Damage Assessment Regulations found at 43 CFR Part 11. The public review of the restoration and compensation determination plan announced by this Notice is provided for in 43 CFR 11.81(d)(1).

Interested members of the public are invited to review and comment on the restoration and compensation determination plan, and on the published assessment results listed in the notice. Copies of the restoration and compensation determination plan, the published assessment results listed in this notice, and the ”Assessment Plan: Lower Fox River/Green Bay NRDA” (“The Plan”) issued on August 23, 1996 (FR Doc. 96-21520), can be requested from the address listed below. The Restoration and Compensation Determination Plan does not represent final determination or claim for damages. The participating co-trustees may revise the Restoration and Compensation Determination Plan in response to issues raised during the comment period. All written comments will be considered and included in the Report of Assessment at the conclusion of the assessment process and the participating co-trustees will make the final determination for the assessment.

DATES: Written comments on the restoration and compensation determination plan and the published assessment results listed in this notice must be submitted on or before December 15, 2000.

ADDRESSES: The restoration and compensation determination plan, as well as the other documents listed in this notice, can be accessed online through the Internet at the following website: http://midwest.fws.gov/nrda/. Written requests for paper copies, or copies on compact disk, may be made to: David Allen, U.S. Fish and Wildlife Service, 1015 Challenger Court, Green Bay, Wisconsin 54311.

SUPPLEMENTARY INFORMATION: The purpose of this natural resource damage assessment is to confirm and quantify injuries to natural resources, resultant economic damages, and the natural resource restoration necessary to address those injuries in the Lower Fox River, Green Bay, and Lake Michigan environment resulting from exposure to polychlorinated biphenyls released by Fox River, Wisconsin paper mills. The injury and required restoration are assessed under the Comprehensive Environmental Response, Compensation, and Liability Act, as amended, and the Clean Water Act, as amended.

William F. Hartwig,
Regional Director.

[FR Doc. 00-27944 Filed 10-30-00; 8:45 am]

BILLING CODE 4310-55-M